DEPARTMENT OF HOMELAND SECURITY

Coast Guard

33 CFR Part 117

[Docket No. USCG-2012-0911]

RIN 1625-AA09

Drawbridge Operation Regulation; Thea Foss Waterway Previously Known as City Waterway, Tacoma, WA

AGENCY: Coast Guard, DHS.

ACTION: Final rule.

SUMMARY: The Coast Guard is modifying the operating schedule that governs the Murray Morgan Bridge, also known as the South 11th Street Bridge, across Thea Foss Waterway, mile 0.6, previously known as City Waterway, at Tacoma, WA. This modified rule allows more efficient staffing of the bridge operating crew by requiring advance notification for bridge openings during designated hours. This rule also removes previously authorized closure periods for the bridge to better reflect present day transportation needs. Lastly, this rule updates contact information for requesting emergency bridge openings.

DATES: This rule is effective June 24, 2013.

ADDRESSES: Documents mentioned in this preamble are part of docket USCG-2012-0911. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Randall Overton, Bridge Administrator, Coast Guard Thirteenth District; telephone (206) 220-7282, email Randall.D.Overton@uscg.mil. If you have questions on viewing the docket, call Barbara Hairston, Program Manager, Docket Operations, telephone (202) 366-9826.

SUPPLEMENTARY INFORMATION:

Table of Acronyms

CFR Code of Federal Regulations

DHS Department of Homeland Security

FR Federal Register

NPRM Notice of Proposed Rulemaking

§ Section Symbol

U.S.C. United States Code

A. Regulatory History and Information

On November 20, 2012 the Coast Guard published a notice of proposed rulemaking (NPRM) entitled, “Drawbridge Operation Regulation; Thea Foss Waterway previously known as City Waterway, Tacoma, WA” in the Federal Register (77 FR 69576). The Coast Guard received no comments on the proposed rule. No public meeting was requested, and none was held.

B. Basis and Purpose

The Murray Morgan Bridge, also known as the South 11th Street Bridge crosses the Thea Foss Waterway at mile 0.6 Tacoma, WA. The Thea Foss Waterway was previously known as City Waterway. The Murray Morgan is a vertical lift bridge which provides 60 feet of vertical clearance at mean high water (MHW) while in the closed position and 135 feet of vertical clearance in the open position. The bridge is currently operated in accordance with 33 CFR § 117.1061, which states that the draw need not be opened from 6:30 a.m. to 8:30 a.m. and 3:30 p.m. to 5:30 p.m. Monday through Friday, for vessels less than 1,000 gross tons.

The City of Tacoma requested the current operating regulation for the Murray Morgan Bridge be modified to address changes in maritime and terrestrial transportation usage. The modifications to the operating schedule for the Murray Morgan Bridge outlined in this Final Rule will allow the City of Tacoma to staff the bridge operating crew more efficiently and better accommodate present day and reasonably foreseeable transportation needs. This modification also updates contact information needed to request emergency openings of the bridge.

C. Discussion of Comments, Changes and the Final Rule

The Coast Guard provided a 45-day comment period and no comments were received.

This Final Rule modifies the operating regulation for the Murray Morgan Bridge with three amendments. The first amendment requires that for bridge openings between 10 p.m. and 8 a.m., notification be made no later than 8 p.m. prior to the desired opening. This differs from the existing regulation in that presently the bridge is required to open at all times (except during authorized closure periods) provided two hours advance notice is given. This amendment for notification by 8 p.m. for openings between 10 p.m. and 8 a.m. is because openings between 10 p.m. and 8 a.m. are extremely rare. Over an 18 month period there were only 6 bridge openings requested between 10 p.m. and 8 a.m. One of the unique features of the Murray Morgan Bridge is its height above the waterway providing 60 feet of clearance at mean high water (MHW) in the closed position. Because of this vertical clearance the overwhelming majority of vessels which transit this waterway do not require a bridge opening. The majority of bridge openings are for locally moored and operated recreational sailboats with mast heights over 60 feet. Almost all of these vessels are moored at marinas in very close proximity of the bridge.

The second amendment to the regulation removes the authorized morning and afternoon bridge closure periods. The current regulation states that the draw need not be opened from 6:30 a.m. to 8:30 a.m. and 3:30 p.m. to 5:30 p.m. Monday through Friday, for vessels of less than 1,000 gross tons. This modification to the operating schedule requires the draw to open at all times with two hours advance notification, except as stated in the first amendment above. The morning and afternoon authorized bridge closures in the existing regulation were put into place when the bridge was part of SR 509, a continuous route from Northeast Tacoma to downtown, and traffic volumes were approximately 15,000 vehicles per day. In 1997 a new SR 509 was constructed approximately 0.7 miles south of the bridge and is now used as the main traffic corridor. After completion of the new SR 509, the Murray Morgan Bridge connection between Northeast Tacoma and downtown was severed due to roadway reconfiguration, resulting in a dramatic decrease of traffic volumes.

The third amendment to the existing regulation changes the contact information for emergency bridge openings. The existing regulation states “In emergencies, openings shall be made as soon as possible upon notification to the Washington State Department of Transportation.” This modification states notification for emergency openings would be made to the City of Tacoma. The reason for this change is because Washington State gave ownership and responsibility of the bridge to the City of Tacoma on January 6, 1998.

D. Regulatory Analyses

We developed this proposed rule after considering numerous statutes and executive orders related to rulemaking. Below we summarize our analyses based on these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Order 12866 or under section 1 of Executive Order 13563. The Office of Management and Budget has not reviewed it under those Orders. The Coast Guard bases this finding on the fact that very few vessels will be impacted because all requested bridge openings will be granted with the requisite advance notification.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities. This action will not have a significant economic impact on a substantial number of small entities because it does not authorize closure periods for the bridge, only advance notification requirements. Additionally, because the bridge provides 60 feet of vertical clearance when it is in the closed position only a very few numbers of vessels using the waterway require a bridge opening to transit the area. Vessels which do require an opening will be granted an opening without delay when appropriate notification is given.

3. Assistance for Small Entities

Under section 213(a) of the Small Business Regulatory Enforcement Fairness Act of 1996 (Pub. L. 104-121), we want to assist small entities in understanding this rule. If the rule affects your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

8. Taking of Private Property

This rule will not cause a taking of private property or otherwise have taking implications under Executive Order 12630, Governmental Actions and Interference with Constitutionally Protected Property Rights

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that might disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guides the Coast Guard in complying with the National Environmental Policy Act of 1969 (NEPA)(42 U.S.C. 4321-4370f), and have concluded that this action is one of a category of actions that do not individually or cumulatively have a significant effect on the human environment. This rule simply promulgates the operating regulations or procedures for drawbridges. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.1061, revise paragraph (b) to read as follows:

§ 117.1061 Tacoma Harbor.

* * * * *

(b) The draw of the Murray Morgan Bridge, also known as the South 11th Street Bridge, across Thea Foss Waterway, previously known as City Waterway, mile 0.6, at Tacoma, shall open on signal if at least two hours notice is given. However, to obtain a bridge opening between 10 p.m. and 8 a.m. notification must be made to the City of Tacoma by 8 p.m. In emergencies, openings shall be made as soon as possible upon notification to the City of Tacoma.

Dated: May 14, 2013.
K. A. Taylor,
Rear Admiral, U.S. Coast Guard, Commander, Thirteenth Coast Guard District.

[FR Doc. 2013-12393 Filed 5-23-13; 8:45 am]

BILLING CODE 9110-04-P